DEPARTMENT OF ENERGY

Federal Energy Regulatory Commission

[Project No. 1971-079]

Idaho Power Company, Idaho/Oregon; Notice of Tribal Consultation Briefing

March 10, 2004.

The Commission intends to hold meetings with the Indian Tribes potentially affected by the relicensing of the Hells Canyon Project ¹ to discuss the Commission's relicensing process, how the tribes can participate to the fullest extent possible, the tribes' interests and concerns in the affected area, and how to establish procedures to ensure appropriate communication between Commission and tribal staff. These meetings will occur between March 29 and March 31, 2004.

¹ These tribes include the Shoshone-Bannock, Shoshone-Paiute, Nez Perce, Umati.

To ensure that all parties are made aware of the issues raised during each tribal consultation meeting, the Commission staff will also be holding a separate, tribal consultation briefing. This meeting will be held on Thursday, April 1, 2004, from 9:30 a.m. to 11:30 a.m. at the Boise Center on the Grove, 850 Front Street, Boise, Idaho.

The Commission encourages parties interested in the Hells Canyon proceeding to come and discuss the issues raised at tribal consultation meetings.

For more information, contact Alan Mitchnick at (202) 502-6074 or alan.mitchnick@ferc.gov.

Magalie R. Salas,
Secretary.

[FR Doc. E4-599 Filed 3-15-04; 8:45 am]

BILLING CODE 6717-01-P